DEPARTMENT OF THE INTERIOR

National Park Service

[NPS-WASO-NAGPRA-NPS0034446; PPWOCRADN0-PCU00RP14.R50000]

Notice of Inventory Completion: University of Pennsylvania Museum of Archaeology and Anthropology, Philadelphia, PA

AGENCY: National Park Service, Interior.

ACTION: Notice.

SUMMARY: The University of Pennsylvania Museum of Archaeology and Anthropology has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Pennsylvania Museum of Archaeology and Anthropology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Pennsylvania Museum of Archaeology and Anthropology at the address in this notice by October 6, 2022.

FOR FURTHER INFORMATION CONTACT: Dr. Christopher Woods, Williams Director, University of Pennsylvania Museum of Archaeology and Anthropology, 3260 South Street, Philadelphia, PA 19104-6324, telephone (215) 898-4050, email director@pennmuseum.org.

SUPPLEMENTARY INFORMATION: Notice is here given in accordance with the Native American Graves Protection and Repatriation Act (NAGPRA), 25 U.S.C. 3003, of the completion of an inventory of human remains under the control of the University of Pennsylvania Museum of Archaeology and Anthropology, Philadelphia, PA. The human remains were removed from Muskogee County, OK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Pennsylvania Museum of Archaeology and Anthropology professional staff in consultation with representatives of the Delaware Nation, Oklahoma; Delaware Tribe of Indians; Stockbridge Munsee Community, Wisconsin; and The Osage Nation (previously listed as Osage Tribe) (hereafter referred to as “The Consulted Tribes”).

History and Description of the Remains

Between 1832 and March of 1834, human remains representing, at minimum, one individual were removed from Muskogee County, OK. The human remains [catalogue number 97-606-40] were obtained by Dr. Zina Pitcher (b. 1797-d. 1872) who, at that time, served as the Army surgeon at Fort Gibson, in Muskogee County, OK. Dr. Pitcher transferred the human remains to Dr. Samuel G. Morton who, by 1839, had accessioned them into his collection. In 1853, Dr. Morton's collection, including these human remains, was purchased from his estate, and formally presented to the Academy of Natural Sciences of Philadelphia. In 1966, the Morton collection, including these human remains, was loaned to the University of Pennsylvania Museum of Archaeology and Anthropology, and in 1997, it was formally gifted to the University of Pennsylvania. The human remains belong to a female between 35 and 50 years of age. Although no known individual was identified, archival documents indicate she was from a “little colony on the Neosho River, near Fort Gibson.” No associated funerary objects are present.

The human remains have been identified as Native American based on specific cultural attributions contained in the museum's records and through consultation. Collector records, museum documentation, and published sources (Morton 1839, 1840, 1844, 1849; Meigs 1857) identify the human remains as Lenape or Delaware. Consultation information presented by The Osage Nation identifies the “small colony” as an early named Osage village associated with an important Osage leader and part of the lands ceded to the United States in the Treaty of 1818. The information presented by The Osage Nation, which is supported by further information from the other three consulted Indian Tribes, indicates the human remains are culturally affiliated with The Osage Nation (previously listed as Osage Tribe).

Determinations Made by the University of Pennsylvania Museum of Archaeology and Anthropology

Officials of the University of Pennsylvania Museum of Archaeology and Anthropology have determined that:

• Pursuant to 25 U.S.C. 3001(9), the human remains described in this notice represent the physical remains of one individual of Native American ancestry.

• Pursuant to 25 U.S.C. 3001(2), there is a relationship of shared group identity that can be reasonably traced between the Native American human remains and The Osage Nation (previously listed as Osage Tribe).

Additional Requestors and Disposition

Lineal descendants or representatives of any Indian Tribe or Native Hawaiian organization not identified in this notice that wish to request transfer of control of these human remains should submit a written request with information in support of the request to Dr. Christopher Woods, Williams Director, University of Pennsylvania Museum of Archaeology and Anthropology, 3260 South Street, Philadelphia, PA 19104-6324, telephone (215) 898-4050, email director@pennmuseum.org, by October 6, 2022. After that date, if no additional requestors have come forward, transfer of control of the human remains to The Osage Nation (previously listed as Osage Tribe) may proceed.

The University of Pennsylvania Museum of Archaeology and Anthropology is responsible for notifying The Consulted Tribes that this notice has been published.

Dated: August 29, 2022.
Melanie O'Brien,
Manager, National NAGPRA Program.

[FR Doc. 2022-19166 Filed 9-2-22; 8:45 am]

BILLING CODE 4312-52-P